DEPARTMENT OF THE TREASURY

Bureau of the Public Debt

Senior Executive Service; Combined Performance Review Board (PRB)

AGENCY: Treasury Department, Bureau of the Public Debt.

ACTION: Notice of Members of Combined Performance Review Board (PRB).

SUMMARY: Pursuant to 5 U.S.C. 4314(c)(4), this notice announces the appointment of the members of the Combined Performance Review Board (PRB) for the Bureau of the Public Debt (BPD), the Bureau of Engraving and Printing (BEP), the Financial Management Service (FMS), the United States Mint, and the Alcohol and Tobacco Tax and Trade Bureau (TTB). The Board reviews the performance appraisals of career senior executives below the level of bureau head and principal deputy in the bureaus, except for executives below the Assistant Commissioner/Executive Director level in the Bureau of the Public Debt and Financial Management Service. The Board makes recommendations regarding proposed performance appraisals, ratings, bonuses, pay adjustments, and other appropriate personnel actions.

Composition of Combined PRB: The Board shall consist of at least three voting members. In the case of an appraisal of a career appointee, more than half of the members shall consist of career appointees. The names and titles of the Combined PRB members are as follows:

Primary Members

Fredrick A. Pyatt, Assistant Commissioner, Office of Management Services, BPD.

Pamela J. Gardiner, Deputy Director, BEP.

Rita Bratcher, Assistant Commissioner, Debt Management Service, FMS.

Jerry Horton, Associate Director, (Chief Information Officer), United States Mint.

John J. Manfreda, Administrator, TTB.

Alternate Members

Anita Shandor, Assistant Commissioner, Office of Financing, BPD.

Scott Wilson, Associate Director, Management, BEP.

Wanda Rogers, Assistant Commissioner, Regional Operations, FMS.

Marty Greiner, Associate Director, (Chief Financial Officer), United States Mint.

Vicky I. McDowell, Deputy Administrator, TTB.

DATES: Membership is effective on September 30, 2007.

FOR FURTHER INFORMATION CONTACT: Angela Jones, Director, Human Resources Division, Bureau of the Public Debt, 200 Third Street, Parkersburg, WV 26106-5312, Telephone Number: 304-480-8302.

Dated: September 10, 2007.
Van Zeck,
Commissioner, Bureau of the Public Debt.

[FR Doc. E7-18325 Filed 9-17-07; 8:45 am]

BILLING CODE 4810-39-P